BUREAU OF CONSUMER FINANCIAL PROTECTION

[Docket No: CFPB-2014-0036]

Agency Information Collection Activities: Submission for OMB Review; Comment Request

AGENCY: Bureau of Consumer Financial Protection.

ACTION: Notice and request for comment.

SUMMARY: In accordance with the Paperwork Reduction Act of 1995 (PRA), the Consumer Financial Protection Bureau (Bureau) is proposing a new information collection titled, “Financial Coaching Program for Veterans and Low-income Consumers.”

DATES: Written comments are encouraged and must be received on or before January 28, 2015 to be assured of consideration.

ADDRESSES: You may submit comments, identified by the title of the information collection, OMB Control Number (see below), and docket number (see above), by any of the following methods:

• Electronic: http://www.regulations.gov. Follow the instructions for submitting comments.

• OMB: Office of Management and Budget, New Executive Office Building, Room 10235, Washington, DC 20503 or fax to (202) 395-5806. Mailed or faxed comments to OMB should be to the attention of the OMB Desk Officer for the Bureau of Consumer Financial Protection.

Please note that comments submitted after the comment period will not be accepted. In general, all comments received will become public records, including any personal information provided. Sensitive personal information, such as account numbers or social security numbers, should not be included.

FOR FURTHER INFORMATION CONTACT: Documentation prepared in support of this information collection request is available at www.reginfo.gov (this link active on the day following publication of this notice). Select “information Collection Review,” under “Currently under review, use the dropdown menu “Select Agency” and select “Consumer Financial Protection Bureau” (recent submissions to OMB will be at the top of the list). The same documentation is also available at http://www.regulations.gov. Requests for additional information should be directed to the Consumer Financial Protection Bureau, (Attention: PRA Office), 1700 G Street NW., Washington, DC 20552, (202) 435-9575, or email: PRA@cfpb.gov. Please do not submit comments to this email box.

SUPPLEMENTARY INFORMATION:

Title of Collection: Financial Coaching Program for Veterans and Low-income Consumers.

OMB Control Number: 3170-XXXX.

Type of Review: New collection (Request for a new OMB control number).

Affected Public: Individuals.

Estimated Number of Respondents: 10,000.

Estimated Total Annual Burden Hours: 5,000.

Abstract: Beginning in early 2015, the Consumer Financial Protection Bureau (“CFPB” or the “Bureau”) will launch a Financial Coaching project to provide direct financial coaching services to transitioning veterans and economically vulnerable consumers nationwide. Over three years, it is estimated that tens of thousands of consumers will be served. In order for CFPB to understand whether the program is effective and for the financial coaches to be able to deliver efficient services and track clients over time, CFPB will need to take steps to monitor program performance and to evaluate the program. This will ultimately include a process evaluation to examine program implementation and an outcomes evaluation to examine program effects on clients. Performance monitoring and the process and outcome evaluations will involve three key data collection efforts: administrative data collected about clients by financial coaches for programmatic purposes; interview data collected by evaluators from key informants such as coaching clients, financial coaches and program administrators; and self-reported survey data from coaches and coaching clients. The information to be collected from clients will include a combination of personal information (basic contact and demographic information), performance metrics (outputs), client-level outcomes (progress towards financial goals or other relevant outcomes) and programmatic and organizational outcomes. The current information collection request is specifically for the administrative data that will be collected by coaches from financial coaching clients for programmatic and performance monitoring purposes. Additional requests will be submitted at a later date for the process and outcomes components of the evaluation.

Request for Comments: The Bureau issued a 60-day Federal Register notice on September 4, 2014 (79 FR 52638). Comments were solicited and continue to be invited on: (a) Whether the collection of information is necessary for the proper performance of the functions of the Bureau, including whether the information will have practical utility; (b) The accuracy of the Bureau's estimate of the burden of the collection of information, including the validity of the methods and the assumptions used; (c) Ways to enhance the quality, utility, and clarity of the information to be collected; and (d) Ways to minimize the burden of the collection of information on respondents, including through the use of automated collection techniques or other forms of information technology. Comments submitted in response to this notice will be summarized and/or included in the request for Office of Management and Budget (OMB) approval. All comments will become a matter of public record.

Dated: December 18, 2014.
Ashwin Vasan,
Chief Information Officer, Bureau of Consumer Financial Protection.

[FR Doc. 2014-30407 Filed 12-24-14; 8:45 am]

BILLING CODE 4810-AM-P